DEPARTMENT OF ENERGY

[GDO Docket No. PP-92-1]

Application To Amend Presidential Permit; El Paso Electric Company

AGENCY: Grid Deployment Office, Department of Energy.

ACTION: Notice of application.

SUMMARY: El Paso Electric Company (EPE or Applicant) has applied to amend Presidential Permit No. PP-48 to reflect a change in counterparty. Concurrent with this request, the Department of Energy (DOE or Department) intends to amend the permit to incorporate reference to the North American Electric Reliability Corporation and Western Systems Coordinating Council, as applicable, pursuant to the Federal Power Act.

DATES: Comments, protests, or motions to intervene must be submitted on or before July 31, 2024.

ADDRESSES: Comments, protests, motions to intervene, or requests for more information should be addressed by electronic mail to Electricity.Exports@hq.doe.gov.

FOR FURTHER INFORMATION CONTACT: Brett Thompson, (202) 288-2028, Electricity.Exports@hq.doe.gov.

SUPPLEMENTARY INFORMATION: The construction, operation, maintenance, and connection of facilities at the international border of the United States for the transmission of electric energy between the United States and a foreign country is prohibited in the absence of a Presidential permit issued pursuant to Executive Order (E.O.) 10485, as amended by E.O. 12038. On April 10, 2023, the authority to issue such permits was delegated to the DOE's Grid Deployment Office by Delegation Order No. S1-DEL-S3-2023 and Redelegation Order No. S3-DEL-GD1-2023.

On April 16, 1992, DOE issued Presidential Permit No. PP-92, authorizing EPE to construct, connect, operate, and maintain a 115-kilovolt (kV) transmission line at the international border between the United States and Mexico.

On May 1, 2024, EPE filed an application with DOE (Application or App.) requesting to amend Presidential Permit No. PP-48 to reflect a change in the counterparty from Comisión Federal de Electricidad (CFE) to the Centro Nacional de Control de Energía (CENACE). App. at 2.

According to the Application, EPE and CFE entered into an Interchange Agreement (Enabling Contract) to “govern the exchange of power between the two countries.” Id. EPE states that “reforms in Mexico have resulted in CFE no longer being responsible for energy transactions with EPE pursuant to the Enabling Contract. Rather, [CENACE] now operates [Mexico's] the wholesale electricity market, has operational control of the national electric system, and establishes energy imports and exports for reliability and emergency situations.” Id. EPE states that the Enabling Contract was assigned from CFE to CENACE effective April 16, 2024. Id. EPE requests that DOE amend Presidential Permit No. PP-92 to reflect CENACE as the counterparty rather than CFE and confirm that the permit will remain applicable to the Enabling Contract now that it has been assigned to CENACE. Id.

Additionally, Article 4 of Presidential Permit No. PP-92 also provides that “[t]he facilities . . . will be designed and operated in accordance with the applicable criteria established by the Inland Power Pool, and consistent with the Western Systems Coordinating Council.” PP-92 at 5. Issuance of the permit preceded the enactment of the Energy Policy Act of 2005, which added section 215 to the Federal Power Act and allowed the Federal Energy Regulatory Commission to certify an Electric Reliability Organization to develop enforceable reliability standards for the Nation's bulk-power system. The certified organization, the North American Electric Reliability Corporation (NERC), oversees several Regional Entities, one of which is the Western Electricity Coordinating Council (WECC). Therefore, concurrent with its intent to modify Presidential Permit No. PP-92 to reflect the substitution of CENACE for CFE, the Department intends to revise Article 4 to substitute the full names of NERC and WECC, as applicable.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning El Paso Electric Company's Application should be clearly marked with GDO Docket No. PP-92-1. Additional copies are to be provided directly to Abe Gonzalez, El Paso Electric, P.O. Box 982, El Paso, Texas 79960, abe.gonzalez@epelectric.com.

Before a Presidential permit may be issued, DOE must determine whether the proposed action is in the public interest. In making that determination, DOE will consider the environmental impacts of the proposed action (i.e., granting the Presidential permit, with any conditions and limitations, or denying the permit) pursuant to DOE's National Environmental Policy Act Implementing Procedures (10 CFR part 1021); determine the Applicant's proposed project's impact on electric reliability by ascertaining whether the proposed project would adversely affect the operation of the U.S. electric power supply system under normal and contingency conditions; and weigh any other factors that DOE may also consider relevant to the public interest. DOE also must obtain the favorable recommendation of the Secretary of State and the Secretary of Defense before taking final action on a Presidential permit application.

EPE's Application may be reviewed or downloaded electronically at www.energy.gov/gdo/pending-applications-0 or by emailing Electricity.Exports@hq.doe.gov. Copies of this Application will be made available, upon request, by accessing the program website at https://www.energy.gov/gdo/pending-applications-0 or by emailing Electricity.Exports@hq.doe.gov.

Signing Authority: This document of the Department of Energy was signed on June 24, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 26, 2024.
Treena V. Garrett,
Federal Register Liaison Officer, U.S. Department of Energy.

[FR Doc. 2024-14420 Filed 6-28-24; 8:45 am]

BILLING CODE 6450-01-P